ENVIRONMENTAL PROTECTION AGENCY

[FRL-6855-5]

Agency Information Collection Activities; Submission of EPA ICR# 0794.09 to OMB for Review and Approval

AGENCY: Environmental Protection Agency (EPA).

ACTION: Notice of submission to OMB.

SUMMARY: In compliance with the Paperwork Reduction Act (44 U.S.C. 3501 et seq.), this notice announces that the Information Collection Request (ICR) entitled: Notification of Substantial Risk under TSCA Section 8(e) (EPA ICR# 0794.09; OMB# 2070-0046) has been forwarded to the Office of Management and Budget (OMB) for review and approval pursuant to 5 CFR 1320.12. The ICR, which is abstracted below, describes the nature of the information collection and its estimated cost and burden. A Federal Register notice announcing the Agency's intent to seek OMB approval for this ICR and a 60-day public comment opportunity, requesting comments on the request and the contents of the ICR, was issued on March 2, 2000 (65 FR 11306). One comment was received, which is addressed in the attachment to this ICR.

DATES: Additional comments may be submitted on or before September 21, 2000.

ADDRESSES: Send comments, referencing EPA ICR No. 0794.09 and OMB Control No. 2070-0046, to the following addresses: Sandy Farmer, U.S. Environmental Protection Agency, Collection Strategies Division (Mail Code: 2822), 1200 Pennsylvania Avenue, NW., Washington, DC 20460; and to: Office of Information and Regulatory Affairs, Office of Management and Budget (OMB), Attention: Desk Officer for EPA, 725 17th Street, NW., Washington, DC 20503.

FOR FURTHER INFORMATION CONTACT: Sandy Farmer by phone at (202) 260-2740, or via e-mail at: “farmer.sandy@epa.gov,” or download off the Internet at http://www.epa.gov/icr/icr.htm and refer to EPA ICR No. 0794.09.

SUPPLEMENTARY INFORMATION: Title: Notification of Substantial Risk under TSCA Section 8(e) (OMB Control No. 2070-0046; EPA ICR No. 0794.09), expiring 09/30/2000. This is a request for extension of a currently approved collection.

Abstract: Section 8(e) of the Toxic Substances Control Act (TSCA) requires that any person who manufactures, imports, processes or distributes in commerce a chemical substance or mixture and who obtains information that reasonably supports the conclusion that such substance or mixture presents a substantial risk of injury to health or the environment must immediately inform EPA of such information. EPA routinely disseminates TSCA section 8(e) data it receives to other Federal agencies to provide information about newly discovered chemical hazards and risks.

Responses to the collection of information are mandatory (see 15 U.S.C. 2607(e)). Respondents may claim all or part of a document confidential. EPA will disclose information that is covered by a claim of confidentiality only to the extent permitted by, and in accordance with, the procedures in TSCA section 14 and 40 CFR part 2. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 2, 2000 (65 FR 11306). EPA received comments on this ICR during the comment period, which are addressed in an attachment to the ICR.

Burden Statement: The annual public reporting burden for this collection of information is estimated to average 27 hours per response for initial TSCA section 8(e) submissions, and 5 hours per follow-up/supplemental section 8(e) submission. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Companies that manufacture, process, distribute or import chemical substances or mixtures.

Frequency of Collection: On occasion.

Estimated No. of Respondents: 267.

Estimated Total Annual Burden on Respondents: 8,209 hours.

Estimated Total Annual Non-labor Costs: $0.

Changes in Burden Estimates: The total burden associated with this ICR has decreased from 9,500 hours in the previous ICR to 8,209 for this ICR. This adjustment in burden reflects a reduction in the anticipated number of follow-up or supplemental TSCA section 8(e) notices received by EPA.

According to the procedures prescribed in 5 CFR 1320.12, EPA has submitted this ICR to OMB for review and approval. Any comments related to the renewal of this ICR should be submitted within 30 days of this notice, as described above.

Dated: August 15, 2000.
Oscar Morales,
Director, Collection Strategies Division.

[FR Doc. 00-21378 Filed 8-21-00; 8:45 am]

BILLING CODE 6550-50-P